DEPARTMENT OF JUSTICE

Antitrust Division

Notice Pursuant to the National Cooperative Research and Production Act of 1993—Readium Foundation

Notice is hereby given that, on July 10, 2013, pursuant to Section 6(a) of the National Cooperative Research and Production Act of 1993, 15 U.S.C. 4301 et seq. (“the Act”), Readium Foundation (“Readium”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are International Digital Publishing Forum (IDPF), Seattle, WA; Datalogics, Inc., Chicago, IL; Evident Point Software Corp., Richmond, British Columbia, CANADA; and Bluefire Productions, LLC, Seattle, WA.

The general areas of Readium's planned activities are to engage in some or all of the following activities: (a) Advance the creation, evolution, promotion, and support of software tools supporting the EPUB open standard environment (“Software”); (b) promote the development and adoption of open, accessible standards and specifications relating thereto (“Specifications”); (c) promote such Specifications and Software worldwide; and (d) undertake such other activities as may from time to time be appropriate to further the purposes and achieve the goals set forth above. Membership in the venture remains open, and the venture intends to file additional written notifications disclosing all changes in membership.

Patricia A. Brink,
Director of Civil Enforcement, Antitrust Division.

[FR Doc. 2013-18610 Filed 8-1-13; 8:45 am]

BILLING CODE P